OFFICE OF GOVERNMENT ETHICS

Agency Information Collection Activities; Submission for OMB Review; Proposed Collection; Comment Request for an Unmodified OGE Form 450 Executive Branch Confidential Financial Disclosure Report

AGENCY: Office of Government Ethics (OGE).

ACTION: Notice of request for agency and public comments.

SUMMARY: After publication of this second round notice, OGE plans to submit an unmodified OGE Form 450 Executive Branch Confidential Financial Disclosure Report to the Office of Management and Budget (OMB) for review and approval of a three-year extension under the Paperwork Reduction Act of 1995 (44 U.S.C. chapter 35).

DATES: Written comments by the public and the agencies on this proposed extension are invited and must be received by October 4, 2013.

ADDRESSES: You may submit comments on this paperwork notice to the Office of Management and Budget, Attn: Desk Officer for OGE, via fax at 202-395-6974 or email at OIRA_Submission@omb.eop.gov. (Include reference to “OGE Form 450 paperwork comment” in the subject line of the message).

FOR FURTHER INFORMATION CONTACT: Mr. Paul D. Ledvina, Agency Clearance Officer, at the U.S. Office of Government Ethics; telephone: 202-482-9247; TTY: 800-877-8339; FAX: 202-482-9237; Email: paul.ledvina@oge.gov. An electronic copy of the OGE Form 450 is available in the Forms Library section of OGE's Web site at http://www.oge.gov. A paper copy may also be obtained, without charge, by contacting Mr. Ledvina.

SUPPLEMENTARY INFORMATION: Title: Executive Branch Confidential Financial Disclosure Report.

Agency Form Number: OGE Form 450.

OMB Control Number: 3209-0006.

Type of Information Collection: Extension without change of a currently approved collection.

Type of Review Request: Regular.

Respondents: Private citizens who are potential (incoming) regular Federal employees whose positions are designated for confidential disclosure filing, and special Government employees whose agencies require that they file new entrant disclosure reports prior to assuming Government responsibilities.

Estimated Annual Number of Respondents: 19,847.

Estimated Time per Response: 1 hour.

Estimated Total Annual Burden: 19,847 hours.

Abstract: The OGE Form 450 collects information from covered department and agency employees as required under OGE's executive branchwide regulatory provisions in subpart I of 5 CFR part 2634. The basis for the OGE reporting regulation is section 201(d) of Executive Order 12674 of April 12, 1989 (as modified by Executive Order 12731 of October 17, 1990, 3 CFR, 1990 Comp., pp. 306-311, at p. 308) and section 107(a) of the Ethics in Government Act, 5 U.S.C. app. sec. 107(a).

OGE published a first round notice of its intent to request paperwork clearance for an unmodified OGE Form 450 Executive Branch Confidential Financial Disclosure Report. See 78 FR 29753 (May 21, 2013). OGE received two responses to that notice: one from a private citizen and one from an executive branch ethics official.

The private citizen suggested several changes to the form including requiring filers to indicate whether or not a reported asset in Part I was over $15,000 and changing OGE's underlying regulation to require filers to report the value of any assets. OGE does not believe that making either change is necessary or desirable because reporting specific asset values will not provide the ethics official with sufficient information for making the conflicts analysis. This commenter also suggested that OGE create a customized version of the OGE Form 450 for special Government employee (SGE) filers. OGE does not see the need for an additional form for use throughout the executive branch because agencies already have available an alternative procedure process at 5 CFR 2634.905(a) to collect the information necessary to perform the conflicts analysis tailored for its SGE filers.

The comment from an executive branch ethics official suggested modifying the instructions for Part III of the OGE Form 450 by adding more examples. OGE has decided not to make this change to the form because this type of information is best conveyed to filers in reference materials that can easily be updated. OGE will consider creating reference materials containing additional descriptions of reportable positions to those provided in the broad language of 5 CFR 2634.907(e)(1).

Request for Comments: Agency and public comment is again invited specifically on the need for and practical utility of this information collection, the accuracy of OGE's burden estimate, the enhancement of quality, utility and clarity of the information collected, and the minimization of burden (including the use of information technology). Comments received in response to this notice will be summarized for, and may be included with, the OGE request for extension of OMB paperwork approval. The comments will also become a matter of public record.

Approved: August 27, 2013.
Walter M. Shaub, Jr.,
Director, Office of Government Ethics.

[FR Doc. 2013-21392 Filed 9-3-13; 8:45 am]

BILLING CODE 6345-03-P